DEPARTMENT OF ENERGY

Federal Energy Regulatory Commission

[Docket Nos. CP15-115-000; CP15-115-001]

National Fuel Gas Supply Corporation and Empire Pipeline, Inc.; Notice of Request for Extension of Time

Take notice that on October 16, 2020, National Fuel Gas Supply Corporation (National Fuel) and Empire Pipeline, Inc. (Empire) (collectively, Applicants) requested that the Federal Energy Regulatory Commission (Commission) grant an extension of time, until December 1, 2024, to complete construction of the Northern Access 2016 Project (Project) and make the Project available for service, as authorized in the February 3, 2017 Order Granting Abandonment and Issuing Certificates (Certificate Order).¹

¹ National Fuel Gas Supply Corp. et al., 158 FERC 61,145 (2017) (Certificate Order), order on reh'g and motion for waiver determination under Section 401 of the Clean Water Act, 164 FERC 61,084 (2018).

The Project consists of approximately 99 miles of new pipeline, primarily 24-inches in diameter, to be constructed in McKean County, Pennsylvania, and Allegany, Cattaraugus, Erie, and Niagara Counties, New York; a new compressor station along Empire's system in Niagara County, New York; and additional compression at National Fuel's existing Porterville Compressor Station in Erie County, New York, as well as new pipeline interconnects and various auxiliary and appurtenant facilities. The Certificate Order required Applicants to complete construction of the Project facilities and make them available for service by February 3, 2019.² In January 2019, the Commission granted Applicants' request for a three-year extension, until February 3, 2022, to complete construction and place the Project facilities into service.³ Due to ongoing legal and regulatory delays, Applicants now request an additional two-year extension of time, until December 1, 2024, to complete construction of the Project and place it into service.

² Certificate Order, 158 FERC 61,145 at ordering para. (C)(1).

³ Letter Order to National Fuel Gas Supply Corp. and Empire Pipeline, Inc., Docket No. CP15-115-000 (issued Jan. 31, 2019) (National Fuel Letter Order).

This notice establishes a 15-calendar day intervention and comment period deadline. Any person wishing to comment on the extension motion may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁴

⁴ Only motions to intervene from entities that were party to the underlying proceeding will be accepted. Algonquin Gas Transmission, LLC, 170 FERC 61,144, at P 39 (2020).

As a matter of practice, the Commission itself generally acts on requests for extensions of time to complete construction for NGA facilities when such requests are contested before order issuance. For those extension requests that are contested,⁵ the Commission acting as a whole will aim to issue an order acting on the request within 45 days.⁶ The Commission will address all arguments relating to whether the applicant has demonstrated there is good cause to grant the extension.⁷ The Commission will not consider arguments that re-litigate the issuance of the Certificate Order, including whether the Commission properly found the project to be in the public convenience or necessity and whether the Commission's environmental analysis for the certificate complied with the National Environmental Policy Act.⁸ At the time a pipeline requests an extension of time, orders on certificates of public convenience and/or necessity are final and the Commission will not re-litigate their issuance. The OEP Director, or his or her designee, will act on all those extension requests that are uncontested.

⁵ Contested proceedings are those where an intervenor disputes any material issue of the filing. 18 CFR 385.2201(c)(1) (2019).

⁶ Algonquin Gas Transmission, LLC, 170 FERC 61,144, at P 40 (2020).

⁷ Id. P 40.

⁸ Similarly, the Commission will not re-litigate the issuance of an NGA section 3 authorization, including whether a proposed project is not inconsistent with the public interest and whether the Commission's environmental analysis for the permit order complied with NEPA.

In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning COVID-19, issued by the President on March 13, 2020. For assistance, contact FERC at FERCOnlineSupport@ferc.gov or call toll-free, (886) 208-3676 or TYY, (202) 502-8659.

The Commission strongly encourages electronic filings of comments, protests and interventions in lieu of paper using the eFile link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on November 6, 2020.

Dated: October 22, 2020.
Nathaniel J. Davis, Sr.,
Deputy Secretary.

[FR Doc. 2020-23864 Filed 10-27-20; 8:45 am]

BILLING CODE 6717-01-P